DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2014, there were six applications approved. This notice also includes information on one application, approved in October 2014, inadvertently left off the October 2014 notice. Additionally, 17 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Bangor, Maine.

Application Number: 14-04-C-00-BGR.

Application Type: Impose and use a PFC.

PFC Level: $4.50.

Total PFC Revenue Approved in this Decision: $3,000,000.

Earliest Charge Effective Date: June 1, 2015.

Estimated Charge Expiration Date: May 1, 2018.

Class of Air Carriers Not Required To Collect PFC's: On demand air taxi commercial operators.

Determination: Approved. Based on information contained in the public agency's application, the FAA has determined that the approved class accounts for less than 1 percent of the total annual enplanements at Bangor International Airport.

Brief Description of Projects Approved for Collection and Use:

Terminal building renovations, phase 2.

PFC application costs.

Decision Date: October 29, 2014.

FOR FURTHER INFORMATION CONTACT: Priscilla Scott, New England Regional Airports Division, (781) 238-7614.

Public Agency: Louisville Regional Airport Authority, Louisville, Kentucky.

Application Number: 14-19-C-00-SDF.

Application Type: Impose and use a PFC.

PFC Level: $4.50.

Total PFC Revenue Approved in this Decision: $2,150,000.

Earliest Charge Effective Date: January 1, 2016.

Estimated Charge Expiration Date: May 1, 2016.

Class of Air Carriers Not Required To Collect PFC's: Air taxi/commercial operators filing FAA Form 1800-31 and operating at Louisville International Airport (SDF).

Determination: Approved. Based on information contained in the public agency's application, the FAA has determined that the approved class accounts for less than 1 percent of the total annual enplanements at SDF.

Brief Description of Project Approved for Collection and Use: Runway safety area 11-29.

Decision Date: December 3, 2014.

FOR FURTHER INFORMATION CONTACT: Tommy DuPree, Memphis Airports District Office, (901) 322-8182.

Public Agency: Tri-Cities Airport Authority, Blountville, Tennessee.

Application Number: 15-06-C-00-TRI.

Application Type: Impose and use a PFC.

PFC Level: $4.50.

Total PFC Revenue Approved in this Decision: $1,866,027.

Earliest Charge Effective Date: March 1, 2015.

Estimated Charge Expiration Date: May 1, 2017.

Class of Air Carriers Not Required To Collect PFC's: Air taxi/commercial operators filing FAA Form 1800-31 and operating at Tri-Cities Regional Airport (TRI).

Determination: Approved. Based on information contained in the public agency's application, the FAA has determined that the approved class accounts for less than 1 percent of the total annual enplanements at TRI.

Brief Description of Projects Approved for Collection and Use:

Terminal road, phase 1.

Access control/EOC.

Terminal frontage improvements, phase 2.

Passenger loading bridge—gate 6.

Baggage claim system replacement.

PFC consultant/development costs.

Perimeter security fence.

PFC administrative costs.

Decision Date: December 3, 2014.

FOR FURTHER INFORMATION CONTACT: Cynthia Wills, Memphis Airports District Office, (901) 322-8190.

Public Agency: Evansville—Vanderburgh Airport Authority, Evansville, Indiana.

Application Number: 15-03-C-00-EVV.

Application Type: Impose and use a PFC.

PFC Level: $4.50.

Total PFC Revenue Approved in this Decision: $2,431,208.

Earliest Charge Effective Date: May 1, 2015.

Estimated Charge Expiration Date: November 1, 2018.

Class of Air Carriers Not Required To Collect PFC's: Nonscheduled/on-demand operators filing FAA Form 1800-31 and operating at Evansville Regional Airport (EVV).

Determination: Approved. Based on information contained in the public agency's application, the FAA has determined that the approved class accounts for less than 1 percent of the total annual enplanements at EVV.

Brief Description of Project Approved for Collection and Use: Passenger boarding bridges purchase and installation.

Decision Date: December 5, 2014.

FOR FURTHER INFORMATION CONTACT: Michael Brown, Chicago Airports District Office, (847) 294-7195.

Public Agency: Massachusetts Port Authority, Boston Massachusetts.

Application Number: 14-09-C-00-BOS.

Application Type: Impose and use a PFC.

PFC Level: $4.50.

Total PFC Revenue Approved in this Decision: $96,941,002.

Earliest Charge Effective Date: May 1, 2023.

Estimated Charge Expiration Date: October 1, 2024.

Class of Air Carriers Not Required To Collect PFC'S: Non-scheduled/on-demand air carriers.

Determination: Approved. Based on information contained in the public agency's application, the FAA has determined that the approved class accounts for less than 1 percent of the total annual enplanements at Boston Logan International Airport.

Brief Description of Projects Approved for Collection and Use at a $4.50 PFC Level:

Rehabilitate runway 15R/33L.

Rehabilitation of north Alpha and north Bravo taxiways.

Runway 22R safety area improvements and replacement of 22R engineered materials arresting system bed.

Checked baggage inspection systems enhancements.

Mitigation sound insulation program.

Decision Date: December 10, 2014.

FOR FURTHER INFORMATION CONTACT: Priscilla Scott, New England Regional Airports Division, (781) 238-7614.

Public Agency: County of Pitkin, Aspen, Colorado.

Application Number: 15-09-C-00-ASE.

Application Type: Impose and use a PFC.

PFC Level: $4.50.

Total PFC Revenue Approved in this Decision: $3,155,000.

Earliest Charge Effective Date: February 1, 2016.

Estimated Charge Expiration Date: September 1, 2020.

Class of Air Carriers Not Required To Collect PFC'S: None.

Brief Description of Projects Approved for Collection and Use:

Conduct environmental assessment (airfield geometry/reconfiguration).

Conduct environmental assessment (terminal area and east side improvements).

Acquire snow removal equipment (blower, plow, and broom).

PFC administration fees.

Decision Date: December 17, 2014.

FOR FURTHER INFORMATION CONTACT: Jesse Lyman, Denver Airports District Office, (303) 342-1262.

Public Agency: Shreveport Airport Authority, Shreveport, Louisiana.

Application Number: 15-03-C-00-SHV.

Application Type: Impose and use a PFC.

PFC Level: $4.50.

Total PFC Revenue Approved In This Decision: $6,248,208.

Earliest Charge Effective Date: February 1, 2015.

Estimated Charge Expiration Date: February 1, 2020.

Class of Air Carriers Not Required To Collect PFC'S: On-demand air taxi/commercial operations.

Determination: Approved. Based on information contained in the public agency's application, the FAA has determined that the approved class accounts for less than 1 percent of the total annual enplanements at Shreveport Regional Airport.

Brief Description of Project Approved for Collection and Use: Terminal renovations, phase 2.

Decision Date: December 19, 2014.

FOR FURTHER INFORMATION CONTACT: Andy Velayos, Louisiana/New Mexico Airports Development Office, (817) 222-5647.

Amendments to PFC Approvals:

Amendment No. city, state | Amendment approved date | Original approved net PFC revenue | Amended approved net PFC revenue | Original estimated charge exp. date | Amended estimated charge exp. date
11-11-C-02-RNO, Reno, NV | 11/28/14 | $33,933,876 | $31,735,100 | 07/01/18 | 07/01/15
07-09-C-01-ATL, Atlanta, GA | 12/17/14 | 38,058,462 | 30,722,380 | 01/01/20 | 01/01/20
05-05-C-08-EWR, Newark, NJ | 12/18/14 | 566,136,035 | 561,101,209 | 09/01/11 | 09/01/11
05-05-C-08-JFK, New York, NY | 12/18/14 | 646,919,140 | 641,165,883 | 07/01/11 | 07/01/11
05-05-C-08-LGA, New York, NY | 12/18/14 | 422,230,884 | 418,475,852 | 07/01/11 | 07/01/11
09-06-U-03-EWR, Newark, NJ | 12/18/14 | NA | NA | 09/01/11 | 09/01/11
09-06-U-03-JFK, New York, NY | 12/18/14 | NA | NA | 07/01/11 | 07/01/11
09-06-U-03-LGA, New York, NY | 12/18/14 | NA | NA | 07/01/11 | 07/01/11
10-07-C-01-EWR, Newark, NJ | 12/18/14 | 191,631,217 | 190,025,386 | 08/01/14 | 08/01/14
10-07-C-01-JFK, New York, NY | 12/18/14 | 255,794,990 | 253,651,480 | 06/01/14 | 06/01/14
10-07-C-01-LGA, New York, NY | 12/18/14 | 121,561,393 | 120,542,733 | 06/01/14 | 06/01/14
10-04-C-01-SWF, Newburgh, NY | 12/18/14 | 4,415,202 | 4,378,203 | 02/01/14 | 02/01/14
12-08-C-01-EWR, Newark, NJ | 12/18/14 | 121,393,042 | 121,393,042 | 10/01/17 | 10/01/17
12-08-C-01-JFK, New York, NY | 12/18/14 | 296,109,860 | 296,109,860 | 09/01/17 | 11/01/17
12-08-C-01-LGA, New York, NY | 12/18/14 | 150,655,394 | 150,655,394 | 09/01/17 | 11/01/17
12-05-C-01-SWF, Newburgh, NY | 12/18/14 | 3,372,027 | 3,372,027 | 02/01/18 | 02/01/18
11-11-C-01-CLE, Cleveland, OH | 12/19/14 | 36,577,300 | 72,641,519 | 02/01/21 | 09/01/23

Issued in Washington, DC, on December 31, 2014.
Joe Hebert,
Manager, Financial Analysis and Passenger Facility Charge Branch.

[FR Doc. 2015-00251 Filed 1-9-15; 8:45 am]

BILLING CODE 4910-13-P